FEDERAL COMMUNICATIONS COMMISSION

Notice of Public Information Collection(s) Being Reviewed by the Federal Communications Commission, Comments Requested

April 6, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 13, 2000. If you anticipate that you will be submitting comments, but find it difficult to do so within the period of time allowed by this notice, you should advise the contact listed below as soon as possible.

ADDRESSES: Direct all comments to Les Smith, Federal Communications Commissions, 445 12th Street, SW, Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-xxxx.

Title: Automated Maritime Telecommunications System (AMTS)—80.385 Frequencies for automated systems, 80.475 Scope of service of the AMTS, and 97.303 Frequency sharing requirements.

Form Number: N/A.

Type of Review: New collection.

Respondents: Business or other for-profit, individuals.

Number of Respondents: 15.

Estimated Time Per Response: .3 hours.

Total Annual Burden: 3 hours.

Total Annual Cost: No annual cost burden on respondents from either capital or start-up costs.

Needs and Uses: The information collection contained in sections 80.385, 80.475 and 97.303 is necessary to require licensees of Automated Maritime Telecommunications System (AMTS) stations to notify TV stations and two organizations (the American Radio Relay League (ARRL), and Interactive Systems, Inc.) that maintain databases of AMTS locations for the benefit of amateur radio operators of the location of AMTS fill-in stations. Amateur radio operators use some of the same frequencies (219—220 MHz) as AMTS stations on a secondary, non-interference basis for digital message forwarding systems and are prohibited within 80 km of an AMTS station. Additionally, reporting requirements are necessary to require amateurs proposing to operate within 640 km of an AMTS station to notify the AMTS licensee as well as the ARRL, one of the organizations that maintain databases of AMTS locations.

OMB Approval Number: 3060-0481.

Title: Application for Renewal of Private Radio Station License.

Form Number: FCC 452R.

Type of Review: Extension of a currently approved collection.

Respondents: Individuals, State or Local Governments, Business or other For-Profit, Non-profit institutions.

Number of Respondents: 2,700.

Estimated Time Per Response: 10 minutes.

Total Annual Burden: 448 hours.

Needs and Uses: Aviation Ground and Marine Coast Radio Station licensees are required to apply for renewal of their radio station authorization every five years. This short form renewal application is generated by the Commission and sent to the licensee as a reminder approximately 90 days prior to license expiration.

The form is required by the Communications Act; International Treaties and FCC Rules—47 CFR 1.926, 80.19 and 87.21.

Estimated costs associated with this application are application and regulatory fees totaling $284,000.

OMB Approval Number: 3060-0746.

Title: Application for Electronic Renewal of Wireless Radio Services Authorization.

Form Number: FCC 900.

Type of Review: Extension of an existing collection.

Respondents: Individuals or households; Business or other for-profit; Not-for-profit institutions; State, Local or Tribal Government.

Number of Respondents: 35,255.

Estimated Time Per Response: 10 minutes.

Total Annual Burden: 5,852 hours.

Needs and Uses: The “generic” renewal application may be used in lieu of FCC Forms 313R, 405A, 405B, 452R, and 574R, to file electronically for renewal of a Wireless Radio Service authorization. Concurrent with renewal, applicants may also request a change of licensee name (with no change to corporate structure, ownership or control), change of mailing address, change the name of their ship, add an official ship number, and notify the Commission of a change in the number of mobiles/pagers for a Land Mobile license.

This generic renewal form may not be filed manually. When filed, immediate confirmation that the renewal has been filed giving them continued operating authority to operate until the renewed license has been received.

Once the radio services are converted to the Universal Licensing System (currently being implemented), applicants may no longer use FCC Form 900 to renew. We anticipate that this collection will be obsolete by the end of calendar year 2000.

Estimated costs associated with this collection including application and regulatory fees are approximately $2,156,000.

OMB Approval Number: 3060-0104.

Title: Temporary Permit to Operate a Part 90 Radio Station.

Form Number: FCC 572.

Type of Review: Extension of a currently approved collection.

Respondents: Businesses or other for-profit; individuals or households; State or Local Governments; non-profit institutions.

Number of Recordkeepers: 2,000.

Estimated Time Per Response: 6 minutes (.10).

Total Annual Burden: 200 hours.

Needs and Uses: FCC Rules require that applicants complete FCC Form 572 if they wish to have immediate authorization to operate 2-way radio equipment already authorized in Part 90 radio services. This form is not submitted to the FCC but is retained in the applicant's possession while their application for licensing is being processed by the FCC.

This form is required by the Communications Act, International Treaties and FCC Rules 47 CFR 1.922, and 1.925, 90.119, 90.159, 90.437 and 90.657.

No cost burden associated with this collection.

OMB Approval Number: 3060-0049.

Title: Application for Restricted Radiotelephone Operator Permit.

Form Number: FCC 753.

Type of Review: Extension of a currently approved collection.

Respondents: Individuals.

Number of Respondents: 19,000.

Estimated Time Per Response: 20 minutes.

Total Annual Burden: 6,270 hours.

Needs and Uses: In accordance with the Communications Act, applicants must possess certain qualifications in order to qualify for a radio operator license. The data submitted on FCC Form 753 aids the Commission in determining whether the applicant possesses these qualifications. The form is required by FCC Rules 47 CFR parts 13 and 1.83. The data will be used to identify the individuals to whom the license is issued and to confirm that the individual possesses the required qualifications for the license.

Estimated costs for this collection which includes application fee is approximately $540,000.

OMB Approval Number: 3060-0025.

Title: Application for Restricted Radiotelephone Operator Permit—Limited Use.

Form Number: FCC 755.

Type of Review: Extension of a currently approved collection.

Respondents: Individuals.

Number of Respondents: 1,000.

Estimated Time Per Response: 20 minutes (.33).

Total Annual Burden: 330 hours.

Needs and Uses: In accordance with the Communications Act, applicants must possess certain qualifications in order to qualify for a radio operator license. The data will be used to identify the individuals to whom the license is issued and to confirm that the individual possesses the required qualifications for the license. Applicants using this form are not eligible for employment in the United States but need an operator permit because they hold an Aircraft Pilot Certificate which is valid in the U.S. and need to operate aircraft radio stations; or they hold an FCC radio station license and will use the permit for operation of that particular station.

Estimated costs associated with this collection which includes application fees is approximately $45,000.

Federal Communications Commission.
Magalie Roman Salas,
Secretary.

[FR Doc. 00-9345 Filed 4-13-00; 8:45 am]

BILLING CODE 6712-01-P